DEPARTMENT OF AGRICULTURE

Agricultural Marketing Service

[Doc. No. AMS-AMS-25-0010]

2025/2026 Rates Charged for AMS Services; Correction

AGENCY: Agricultural Marketing Service, USDA.

ACTION: Notice; correction.

SUMMARY: On April 29, 2025, the Agricultural Marketing Service (AMS) published a notice in the Federal Register announcing the 2025/2026 rates it will charge for voluntary grading, inspection, certification, auditing, and laboratory services for a variety of agricultural commodities including meat and poultry, fruits and vegetables, eggs, dairy products, rice, and cotton and tobacco. This document corrects typographical errors in a table.

FOR FURTHER INFORMATION CONTACT: Melissa Bailey, Associate Administrator, AMS, USDA, Room 2036-S, 1400 Independence Ave. SW, Washington, DC 20250; Telephone: (202) 205-9356 or Email: melissa.bailey@usda.gov.

SUPPLEMENTARY INFORMATION: The Agricultural Marketing Act of 1946, as amended (AMA) (7 U.S.C. 1621-1627), provides for the collection of fees to cover costs of various inspection, grading, certification, or auditing services covering many agricultural commodities and products. On April 29, 2025, the Agricultural Marketing Service (AMS) published a notice announcing the 2025/2026 rates it will charge for voluntary grading, inspection, certification, auditing, and laboratory services for a variety of agricultural commodities including meat and poultry, fruits and vegetables, eggs, dairy products, rice, and cotton and tobacco. This document corrects typographical errors in the fee table for 2025/2026 Export Food Aid Commodities, which was published as part of a larger table describing all 2025/2026 United States Warehouse Act Fees. This correction will not change the fees charged, only the description of services provided.

Correction

In the Federal Register of April 29, 2025, in FR Doc. 2025-07349, on page 17762, correct the table titled “Export Food Aid Commodities” to read:

Export Food Aid Commodities
Export food aid commodities License Action Fee | $116
Inspection Fee (per location) | 900
Annual User Fee (per location) | 1,000

Melissa Bailey,
Associate Administrator, Agricultural Marketing Service.

[FR Doc. 2025-14523 Filed 7-31-25; 8:45 am]

BILLING CODE 3410-02-P